DEPARTMENT OF COMMERCE

International Trade Administration

[A-201-822]

Stainless Steel Sheet and Strip in Coils From Mexico; Antidumping Duty Administrative Review; Time Limits

AGENCY: Import Administration, International Trade Administration, Department of Commerce.

ACTION: Notice of extension of time limits.

SUMMARY: The Department of Commerce (the Department) is extending the time limits for the final results of the 1999-2000 administrative review of the antidumping duty order on stainless steel sheet and strip in coils from Mexico. This review covers one manufacturer/exporter of the subject merchandise to the United States and the period January 4, 1999 through June 30, 2000.

EFFECTIVE DATE: November 15, 2001.

FOR FURTHER INFORMATION CONTACT: Deborah Scott at (202) 482-2657 or Robert James at (202) 482-0649, Antidumping and Countervailing Duty Enforcement Group III, Office Eight, Import Administration, International Trade Administration, U.S. Department of Commerce, 14th Street and Constitution Avenue NW, Washington, DC 20230.

SUPPLEMENTARY INFORMATION: On August 8, 2001, we published the preliminary results of this administrative review. See Stainless Steel Sheet and Strip in Coils from Mexico; Preliminary Results of Antidumping Duty Administrative Review, 66 FR 41523. Currently, the final determination in this administrative review is due on December 6, 2001. Petitioners' and respondent's case and rebuttal briefs raise complicated issues such as major inputs purchased from affiliated and unaffiliated suppliers and the use of downstream sales. Because it is not practicable to complete this review within the normal statutory time limit, the Department is extending the time limits for completion of the final results until February 4, 2002 in accordance with section 751(a)(3)(A) of the Tariff Act of 1930, as amended.

This extension is in accordance with section 751(a)(3)(A) of the Tariff Act of 1930, as amended (19 U.S.C. 1675 (a)(3)(A) (2001)).

Dated: November 8, 2001.
Joseph A. Spetrini,
Deputy Assistant Secretary for Import Administration, Group III.

[FR Doc. 01-28641 Filed 11-14-01; 8:45 am]

BILLING CODE 3510-DS-P